DEPARTMENT OF THE INTERIOR

Bureau of Land Management

[16XL LLWY920000.L51010000.ER0000.LVRWK09K0990.241A00; 4500099288; IDI-35849-01]

Notice of Availability of the Final Supplemental Environmental Impact Statement and Proposed Land Use Plan Amendments for Segments 8 and 9 of the Gateway West 500-kV Transmission Line Project, Idaho

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Final Supplemental Environmental Impact Statement (EIS) and Proposed Resource Management Plan (RMP)/Management Framework Plan (MFP) Amendments for the right-of-way (ROW) application for Segments 8 and 9 of the Gateway West 500-kilovolt (kV) Transmission Line Project in Idaho. By this notice the BLM is announcing its availability and the opening of a protest period concerning the proposed RMP/MFP amendments.

DATES: A person who meets the conditions for protesting an RMP/MFP amendment outlined in 43 CFR 1610.5-2 and wishes to file a protest must do so within 30 days of the date that the Environmental Protection Agency publishes its Notice of Availability in the Federal Register.

ADDRESSES: Interested persons may review the Final Supplemental EIS and Proposed RMP/MFP Amendments online at http://on.doi.gov/1sExPBP. Copies of the Final Supplemental EIS and Proposed RMP/MFP Amendments and other documents pertinent to this project may also be examined at several BLM offices and public libraries, as described in the Supplementary Information section of this notice.

All protests must be in writing and mailed to one of the following addresses:

U.S. Postal Service Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Heather Feeney, Public Affairs Specialist, telephone 208-373-4060; email hfeeney@blm.gov. Persons who use a telecommunications device for the deaf (TDD) may call the Federal Relay Service (FRS) at 1-800-877-8339 to contact Mrs. Feeney. The Service is available 24 hours a day, 7 days a week, to leave a message or question with Mrs. Feeney. You will receive a reply during normal business hours.

SUPPLEMENTARY INFORMATION: PacifiCorp, dba Rocky Mountain Power, and Idaho Power (Applicants) have submitted a ROW application to construct, operate, and maintain two 500-kV electric transmission lines on Federal lands as part of the Gateway West project. The initial application proposed to construct electric transmission lines from the Windstar Substation near Glenrock, Wyoming, to the Hemingway Substation near Melba, Idaho, approximately 20 miles southwest of Boise, Idaho. The original project comprised 10 transmission line segments with a total length of approximately 1,000 miles and was analyzed in a Final EIS published in April 2013. The BLM issued a Record of Decision (ROD) in November 2013 that authorized routes on Federal lands for Segments 1 through 7 and Segment 10 but deferred a decision for Segments 8 and 9.

In August 2014, the BLM received from the Applicants a revised ROW application for Segments 8 and 9 and a revised Plan of Development (POD) for the project. The BLM determined that new information in the revised ROW application and POD, including revised proposed routes for Segments 8 and 9 of the transmission lines and several modified design features, required additional analysis of potential environmental effects to supplement the analysis presented in the 2013 Final EIS.

A Notice of Intent to prepare a Supplemental EIS was published in the Federal Register on September 19, 2014 (79 FR 56399), initiating a 45-day scoping period that included four open house-style public meetings in communities in the project area. The Notice of Availability for the Draft Supplemental EIS was published on March 11, 2016, and the BLM accepted public comments on the range of alternatives, effects analysis and draft RMP/MFP amendments for 90 days, ending on June 9, 2016. During the public comment period, five open house-style public meetings were held in Hagerman, Boise, Kuna, Twin Falls and Murphy, Idaho. An online open house that displayed information presented at the in-person public meetings provided an additional means for the public to submit comments and questions during the public comment period.

Both the Draft and Final Supplemental EISs incorporate information contained in two reports developed in 2014 by the BLM Boise District Resource Advisory Council (RAC) subcommittee on Gateway West. One report identified and evaluated route options in the Boise District portions of Segments 8 and 9, and the second report examined potential mitigation and resource enhancement for impacts in the Morley Nelson Snake River Birds of Prey National Conservation Area (SRBOP).

The BLM must determine whether to grant, grant with modifications, or deny the ROW application to use public lands for Segments 8 and 9 of the Gateway West project. In accordance with 43 CFR 1610.0-5(b), the BLM must consider existing RMPs and MFPs in the decision on whether or not to issue a ROW grant. Portions of the proposed transmission line are not in conformance with several BLM land management plans, and therefore, amendments to these plans are analyzed as part of the Supplemental EIS. The BLM will decide whether to approve land use plan amendments for non-conforming elements. In addition, the BLM must ensure that the authorized project would be compatible with the purposes for which Congress designated the SRBOP in Public Law 103-64 and with current policy for managing units of the BLM's National Conservation Lands.

The BLM is the lead Federal agency for the NEPA analysis and preparation of the Supplemental EIS. The State of Idaho, Twin Falls County, and Federal agencies with specialized expertise and/or jurisdictional responsibilities in the area of Segments 8 and 9 are participating as cooperating agencies. These include the U.S. Fish and Wildlife Service (USFWS); National Park Service; U.S. Army Corps of Engineers; Idaho State Historic Preservation Office; Idaho Department of Fish and Game; the Idaho Governor's Office of Energy Resources; the City of Kuna, Idaho; and Twin Falls County, Idaho.

Comments on the Draft Supplemental EIS/Draft RMP Amendments received from the public and during internal BLM review were considered and incorporated as appropriate into the Final Supplemental EIS/Proposed RMP/MFP amendments. Comments on the Draft Supplemental EIS/Draft RMP/MFP Amendments resulted in the addition of clarifying text but did not significantly change proposed land use plan decisions.

The BLM is also engaging in government-to-government consultations on the Supplemental EIS with the Shoshone-Bannock Tribes of Fort Hall and the Shoshone-Paiute Tribes of Duck Valley, under Federal laws and policies including but not limited to the National Historic Preservation Act, NEPA, Archaeological Resources Protection Act, American Indian Religious Freedom Act, Native American Graves Protection and Repatriation Act, and Executive Orders 12875, 12898, 13007, 13084, and 13175.

Relevant issues and concerns that influenced the scope of the environmental analysis in the Draft Supplemental EIS but which were not addressed in the original EIS were identified during scoping. Alternatives presented in the Final Supplemental EIS are analyzed based on all the issues included in the 2013 Final EIS (refer to Section 1.10 of the Final EIS), as well as in response to new issues, direction in agency handbooks, and requirements of Federal and State laws and regulations. The following issue categories were identified from public and internal scoping conducted for the Supplemental EIS:

• National Historic Trails

• Visual resources

• Cultural resources

• Socioeconomics

• Environmental justice

• Vegetation

• Special status plants

• Invasive plant species

• Wetlands/Riparian areas

• Wildlife and fish (General)

• Special status wildlife and fish

• Minerals

• Paleontological resources

• Geologic hazards

• Soils

• Water resources

• Land use and recreation

• Agriculture

• Transportation

• Air quality

• Electrical environment

• Public safety

• Noise

• SRBOP resources and values

The Final Supplemental EIS analyzes in detail seven pairings of route alternatives for Segments 8 and 9 as Action Alternatives. Analysis of the No Action Alternative, under which the ROW application would be denied and Segments 8 and 9 would not be constructed on public lands, is included in the 2013 Final EIS for the original Gateway West project and is incorporated by reference in the Final Supplemental EIS.

Alternative 1 is the pair of revised proposed routes for Segments 8 and 9, as presented by the Applicants. Alternative 2 pairs the revised proposed route for Segment 8 and the Final EIS proposed route for Segment 9. Alternative 3 is the revised proposed route for Segment 8 and a route designated 9K, which was developed as a result of scoping for the Draft Supplemental EIS. Alternative 4 pairs the Final EIS proposed route for Segment 9 and a route designated as 8G, which was developed as a result of scoping for the Draft Supplemental EIS. Alternative 5 pairs routes 8G and 9K. Alternative 6 consists of the Final EIS proposed route for Segment 9 and a Draft Supplemental EIS route 8H. Alternative 7 is routes 8H and 9K. The ROW width requested for all segments is 250 feet, except for Alternative 5, where a 500-foot ROW is required to accommodate two lines at the minimum separation distance. Portions of all route alternatives would cross the SRBOP.

Both segments terminate at the Hemingway substation under all action alternatives. Segments are separated at distances of 250 feet to more than 30 miles, varying within routes and/or across alternatives. Analysis of several other routes for Segments 8 and 9 in the 2013 Final EIS are incorporated by reference into the Draft and Final Supplemental EISs. The Final Supplement EIS identifies Alternative 5 as the preferred Alternative.

Mitigation

The Final Supplemental EIS incorporates by reference the analysis related to Segments 8 and 9 in the Gateway West 2013 Final EIS, including relevant Proposed Environmental Protection Measures identified in Table 2.7-1 of that document. The Final Supplemental EIS supplements the analysis in that Final EIS by assessing new information that has become available since the Final EIS and ROD were published, including the identification of new routes and route variations for Segments 8 and 9. All of those new routes and route variations would have some impact on the SRBOP, a National Conservation Area, whose enabling statute directs that the area be managed “to provide for the conservation, protection and enhancement of raptor populations and habitats and the natural and environmental resources and values associated therewith, and of the scientific, cultural, and educational resources and values of the public lands in the conservation area.” Public Law 103-64, at section 3(2).

The Final Supplemental EIS includes new information and analyses regarding mitigation and enhancement of resource impacts, especially within the SRBOP. This mitigation is consistent with the Presidential Memorandum on Mitigation (November 3, 2015) which requires that agencies “[e]stablish a net benefit goal or, at a minimum, a no net loss goal for natural resources the agency manages that are important, scarce, or sensitive . . .”. The Memorandum further provides that: “[w]hen a resource's value is determined to be irreplaceable, the preferred means of achieving either of these goals is through avoidance, consistent with applicable legal authorities.” Memorandum at section 3(a). Department of the Interior policy calls for applying a mitigation hierarchy—a sequence of approaches—to develop appropriate actions to address project impacts: Avoid, mitigate, compensate. Department Manual at 600 DM 6.

As part of their revised POD, the Applicants proposed a mitigation and enhancement portfolio (MEP) with design features specific to the SRBOP, aimed at mitigating the effects of project-related impacts within the SRBOP, as well as complying with the resource enhancement goal in the SRBOP's enabling statute. The Draft Supplemental EIS found that the MEP did not provide sufficient details or specifics for development of mitigation actions to allow the BLM to determine how the MEP goals for SRBOP would be achieved.

Appendix K in the Final Supplemental EIS presents a Framework the BLM has developed for assessing compensatory mitigation for SRBOP consistent with FLPMA, the Department policy, and the Presidential Memorandum as they relate to impacts on National Historic Trails, cultural resources, wildlife habitat, and recreation and visitor services in the SRBOP. The Framework supersedes the MEP and is scalable. It discusses compensatory mitigation measures that would be required under each alternative to address impacts to the resources warranting mitigation, including each SRBOP resource category. The Framework describes three categories of mitigation actions that would address residual impacts to SRBOP resources: Preservation and Protection, Restoration, and Establishment (including Science and Education). If the BLM grants a ROW within the SRBOP, the BLM will require the Applicant to meet the mitigation requirements before the BLM issues a Notice to Proceed.

Impacts to Greater sage-grouse (GRSG) and migratory birds, wetlands, and cultural resources and National Historic Trails outside the SRBOP are addressed in the 2013 Final EIS for the entire 10-segment project, and the 2013 ROD contains compensatory mitigation frameworks for each of these resources. The Final Supplemental EIS finds that the 2013 GRSG Habitat Mitigation Plan does not address all potential indirect effects, and as a result, the BLM will require the applicants to develop a proposal and final plan that fully compensates for all potential indirect and direct impacts to GRSG, using methods outlined in the August 2016 white paper authored by the BLM and USFWS.

The Final Supplemental EIS sets the standard for compensatory mitigation to address impacts to GRSG as a net conservation gain for the species. The standard for compensatory mitigation that addresses impacts in the SRBOP is enhancement of resources, consistent with the enabling statute for the SRBOP (Pub. L. 103-64). In the ROD, the Authorized Officer, taking into consideration the totality of the analysis and available information, will determine whether the requirements in the Framework will meet the statute's enhancement standard. For impacts to important, scarce or sensitive resources on BLM-managed lands outside the SRBOP and which are not identified as GRSG habitat, compensatory mitigation will be required to achieve a minimum of no net loss or where required or appropriate, a net benefit to impacted resources. Compensatory mitigation for all important scarce or sensitive resources will be designed to ensure durability, effectiveness, timeliness, commensurability, additionality and governance. Department Manual at 600 DM 6.

Agency Preferred Alternative

In accordance with the Department's NEPA regulations (43 CFR 46.425), the BLM identifies Alternative 5 as the Preferred Alternative. This alignment minimizes crossing of the SRBOP to a total of 17.6 miles, 8.8 miles per segment in parallel, separated by 250 feet. The alternative avoids all GRSG Priority Habitat Management Areas, the Hagerman Fossil Beds National Monument, the historic Toana Freight Road, and Balanced Rock natural landmark in Twin Falls County. The distance separating the segments (250 feet) meets WECC planning criteria, while minimizing the project footprint by reducing the need to construct new access roads to build and service the lines. The alignments in this alternative also avoid primary agricultural lands in Owyhee County and in general, impacts the least amount of private lands of any alternative analyzed in detail in the Supplemental EIS. Residential areas of Kuna and Melba are also avoided.

Alternative 5 would require five plan amendments to three current BLM land use plans so that the project would conform to the respective plans. The following land use plans would be amended in a decision selecting Alternative 5:

Twin Falls MFP

Snake River Birds of Prey RMP

Bruneau MFP

In order to authorize the Segment 8 alignment in this alternative, two land use plans would need to be amended. The SRBOP RMP would require an amendment to allow an additional ROW and designate an additional corridor for two 500-kV lines, as well as an amendment to allow the project within 0.5 mile of sensitive plant habitat. The Bruneau MFP would need to be amended to change the classification for a VRM Class II parcel near Castle Creek to VRM Class III. These same amendments to the SRBOP RMP and Bruneau MFP would be needed for Segment 9 in this alternative, as the routes would parallel each other in these planning areas. Authorizing the Segment 9 alignment in this alternative would also require two additional amendments. The Twin Falls MFP would need amendments to allow the ROW outside of existing corridors, and to reclassify VRM Class I and II areas adjacent to the Roseworth corridor to VRM class III, while allowing a 500-kV line to cross the Salmon Falls Creek Area of Critical Environmental Concern.

Environmentally Preferable Alternative

For Gateway West, the environmentally preferable alternative is the No Action Alternative. Under the No Action Alternative, Gateway West Segments 8 and 9 would not be constructed, no RMPs or MFPs would need to be amended, and the objectives of the project as described in Section 1.4 of the Supplemental EIS would not be met.

Protesting Proposed Land Use Plan Amendments

Pursuant to 43 CFR 1610.5-2, a person may protest the Proposed RMP/MFP amendments. Instructions for filing a protest with the Director of the BLM regarding the Proposed RMP/MFP Amendments may be found online at http://www.blm.gov/wo/st/en/prog/planning/planning_overview/protest_resolution/filinginstructions.html and in the “Dear Reader” Letter of the Gateway West Final Supplemental EIS and Proposed RMP/MFP Amendments. All protests must be in writing and mailed to the appropriate address, as set forth in the ADDRESSES section above. Emailed protests will not be accepted as valid protests unless the protesting party also provides the original letter by either regular mail or overnight delivery postmarked by the close of the protest period. Under these conditions, the BLM will consider the email as an advance copy, and it will receive full consideration. If you wish to provide the BLM with such advance notification, please direct emails to protest@blm.gov.

Copies of the Final Supplemental EIS and Proposed RMP/MFP Amendments have been sent to cooperating agencies; other affected Federal, State, and local government agencies; the Shoshone-Paiute Tribes of Duck Valley; the Shoshone-Bannock Tribes of Fort Hall; and other stakeholders.

Copies of the Final Supplemental EIS and Proposed RMP/MFP Amendments and other documents pertinent to this project may also be examined at:

• Bureau of Land Management, Idaho State Office, Public Room, 1387 South Vinnell Way, Boise, ID 83709, Telephone: 208-373-3863

• Bureau of Land Management, Boise District Office, 3948 Development Avenue, Boise, ID 83705, Telephone: 208-384-3300

• Bureau of Land Management, Twin Falls District Office, 2878 Addison Avenue East, Twin Falls, ID 83301, Telephone: 208-735-2060

• Bureau of Land Management, Owyhee Field Office, 20 First Avenue West, Marsing, ID 83639, Telephone: 208-896-5912

• The following public libraries:

Ada Community Library, Victory Branch (Boise)

Boise Public Library

Boise State University, Albertsons Library

Bruneau Valley District Library (Bruneau)

College of Idaho, N.L. Terteling Library (Caldwell)

College of Southern Idaho Library (Twin Falls)

College of Western Idaho Library (Nampa)

Gooding Public Library

Kuna Library

Meridian Library, (Cherry Lane)

Mountain Home Public Library

Nampa Public Library

Northwest Nazarene University, John E. Riley Library (Nampa)

State Law Library (Boise)

Twin Falls Public Library.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2; 43 CFR 1610.5.

Timothy M. Murphy,
BLM Idaho State Director.

[FR Doc. 2016-24354 Filed 10-6-16; 8:45 am]

BILLING CODE 4310-GG-P